DEPARTMENT OF HOUSING AND URBAN DEVELOPMENT

[Docket No. FR-7093-N-04]

60-Day Notice of Proposed Information Collection: Supply Chain Risk Management Questionnaire; OMB Control No.: 2535-NEW

AGENCY: Office of the Chief Procurement Officer, Department of Housing and Urban Development (HUD).

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 27, 2025.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Anna Guido, Clearance Officer, REE, Department of Housing and Urban Development, 451 7th Street SW, Room 8210, Washington, DC 20410-5000; email at Anna.Guido@hud.gov.

FOR FURTHER INFORMATION CONTACT: Anna Guido, Clearance Officer, REE, Department of Housing and Urban Development, 451 7th Street SW, Washington, DC 20410; email at Anna.Guido@hud.gov, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A.

A. Overview of Information Collection

Title of Information Collection: Supply Chain Risk Management Questionnaire.

OMB Approval Number: 2535-XXXX.

Type of Request: New.

Description of the need for the information and proposed use: HUD has implemented a department-wide supply chain risk management program. HUD will collect information to evaluate the supply chain risk management practices of its current and prospective vendors. In compliance with Executive Order 14017, America's Supply Chains; Executive Order 14028, Improving the Nation's Cybersecurity; the Federal Acquisition Supply Chain Security Act (FASCSA); and incorporating guidance published in the National Institute of Standards and Technology (NIST) Special Publication (SP) 800-161, Cyber Security Supply Chain Risk Management Practices for Systems and Organizations; the U.S. Department of Housing and Urban Development (HUD) has implemented a Department-wide supply chain risk management (SCRM) program. This initiative will include updated and applicable policy, procedures, and documentation that present the structure of the HUD SCRM Program and establish the guidance for performing vendor supply chain risk assessments. The HUD SCRM Program enables the Department to implement executive orders, legal authorities, regulatory orders, and federal guidance which includes a consistent process for identifying supply chain risk in current and future vendor relationships. As a part of this Program, HUD will collect information to evaluate the supply chain risk management practices of its current and prospective vendors through a HUD SCRM Questionnaire.

Respondents: Current and prospective information and communications technology vendors.

Information Collection/Form Number: Pending.

Information collection | Number of respondents | Frequency of response | Responses per annum | Burden hour per response | Annual burden hour | Hourly cost per response ¹ | Annual cost
Vendor Pre-Award Questionnaire Response | 240 | 1 | 240 | 4 | 960 | $45.93 | $44,092.80
Annual Current Vendor Questionnaire Response | 110 | 1 | 110 | 2 | 220 | 45.93 | 10,104.60
Total | 350 | 1 | 350 | 6 | 1,180 | 45.93 | 54,197.40
¹ Hourly cost estimated using U.S. Bureau of Labor Statistics data for 2023 wage category: Sales and Office Occupation, Information industry Sector 51—Information—May 2022 OEWS Industry-Specific Occupational Employment and Wage Estimates (bls.gov).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comments in response to these questions.

C. Authority

Section 2 of the Paperwork Reduction Act of 1995, 44 U.S.C. 3507.

Lawrence E. Chambers,
Director, Risk Management Division, Office of the Chief Procurement Officer.

[FR Doc. 2025-05092 Filed 3-25-25; 8:45 am]

BILLING CODE 4210-67-P